ENVIRONMENTAL PROTECTION AGENCY

40 CFR Parts 52

[EPA-R04-OAR-2022-0608; FRL-10387-02-R4]

Air Plan Approval; Florida; Noninterference Demonstrations for Removal of CAIR and Obsolete Rules in the Florida SIP

AGENCY: Environmental Protection Agency (EPA).

ACTION: Final rule.

SUMMARY: The Environmental Protection Agency (EPA) is approving a portion of a State Implementation Plan (SIP) revision submitted by the Florida Department of Environmental Protection (FDEP) on April 1, 2022, for the purpose of removing several rules from the Florida SIP. EPA is approving the removal of the State's Clean Air Interstate Rule (CAIR) rules from the Florida SIP as well as several Reasonably Available Control Technology (RACT) rules for particulate matter (PM) because these rules have become obsolete. The State has provided a non-interference demonstration to support the removal of these rules from the Florida SIP pursuant to the Clean Air Act (CAA or Act).

DATES: This rule is effective November 2, 2023.

ADDRESSES: EPA has established a docket for this action under Docket Identification No. EPA-R04-OAR-2022-0608. All documents in the docket are listed on the www.regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Evan Adams, Air Planning and Implementation Branch, Air and Radiation Division, U.S. Environmental Protection Agency, Region 4, 61 Forsyth Street SW, Atlanta, Georgia 30303-8960. The telephone number is (404) 562-9009. Mr. Adams can also be reached via electronic mail at adams.evan@epa.gov.

SUPPLEMENTARY INFORMATION:

I. Background

On April 1, 2022, FDEP submitted a SIP revision to remove Rules 62-296.470, Florida Administrative Code (F.A.C.), Implementation of Federal Clean Air Interstate Rule, 62-296.701, F.A.C., Portland Cement Plants, 62-296.703, F.A.C., Carbonaceous Fuel Burners, 62-296.706, F.A.C., Glass Manufacturing Process, 62-296.709, F.A.C., Lime Kilns, and 62-296.710, F.A.C., Smelt Dissolving Tanks from the SIP.¹ Florida repealed Rule 62-296.470 on August 14, 2019, through a State regulatory action because CAIR has sunset and, under CSAPR, EPA determined that sources in Florida do not contribute significantly to nonattainment in, or interfere with maintenance by, any other State with respect to the covered NAAQS. Because the Cross-State Air Pollution Rule (CSAPR) replaced CAIR, and EPA previously determined that CSAPR does not apply to Florida, neither of these rules have any applicability in Florida today. Similarly, Florida's PM RACT rules only apply to emission units that have been issued an air permit on or before May 30, 1988. There are no longer any units in the State still in operation covered by Rules 62-296.701, 62-296.703, 62-296.706, 62-296.709, and 62-296.710. Therefore, removal of these rules from the SIP will not interfere with any applicable requirement concerning attainment and reasonable further progress or any other applicable requirement of the CAA. See CAA section 110(l).

¹ In FDEP's April 1, 2022, submission, the State requested several other approvals from EPA, and EPA is addressing those rules in a separate action.

Through a notice of proposed rulemaking (NPRM) published on August 11, 2023 (88 FR 54534), EPA proposed to approve the portion of Florida's April 1, 2022, SIP submittal seeking removal of Florida Rules 62-296.470, 62-296.701, 62-296.703, 62-296.706, 62-296.709, and 62-296.710 from the SIP. The details of Florida's submission, as well as EPA's rational for removing these rules, are described in more detail in EPA's August 11, 2023, NPRM. Comments on the August 11, 2023, NPRM were due on or before September 11, 2023. No adverse comments were received on the August 11, 2023, NPRM.

II. Incorporation by Reference

In this document, EPA is finalizing regulatory text that includes incorporation by reference. EPA is finalizing the removal of Rules 62-296.470, F.A.C., Implementation of Federal Clean Air Interstate Rule, 62-296.701, F.A.C., Portland Cement Plants, 62-296.703, F.A.C., Carbonaceous Fuel Burners, 62-296.706, F.A.C., Glass Manufacturing Process, 62-296.709, F.A.C., Lime Kilns, and 62-296.710, F.A.C., Smelt Dissolving Tanks from the Florida SIP, which is incorporated by reference in accordance with the requirements of 1 CFR part 51, as discussed in Section I of this preamble. EPA has made and will continue to make the SIP generally available at the EPA Region 4 Office (please contact the person identified in the “For Further Information Contact” section of this preamble for more information).

III. Final Action

EPA is approving the portion of the April 1, 2022, Florida SIP revision that consists of the removal of Rules 62-296.470, 62-296.701, 62-296.703, 62-296.706, 62-296.709, and 62-296.710 from the Florida SIP.

IV. Statutory and Executive Order Reviews

Under the CAA, the Administrator is required to approve a SIP submission that complies with the provisions of the Act and applicable Federal regulations. See 42 U.S.C. 7410(k); 40 CFR 52.02(a). Thus, in reviewing SIP submissions, EPA's role is to approve State choices, provided that they meet the criteria of the CAA. This action merely approves State law as meeting Federal requirements and does not impose additional requirements beyond those imposed by State law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of Section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rule does not have Tribal implications and will not impose substantial direct costs on Tribal governments or preempt Tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

FDEP did not evaluate EJ considerations as part of its SIP submittal; the CAA and applicable implementing regulations neither prohibit nor require such an evaluation. EPA did not perform an EJ analysis and did not consider EJ in this action. Due to the nature of the action being taken here, this action is expected to have a neutral impact on the air quality of the affected area. Consideration of EJ is not required as part of this action, and there is no information in the record inconsistent with the stated goal of E.O. 12898 of achieving EJ for people of color, low-income populations, and Indigenous peoples.

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by December 4, 2023. Filing a petition for reconsideration by the Administrator of this final rule does not affect the finality of this action for the purposes of judicial review nor does it extend the time within which a petition for judicial review may be filed and shall not postpone the effectiveness of such rule or action. This action may not be challenged later in proceedings to enforce its requirements. See section 307(b)(2).

List of Subjects in 40 CFR Part 52

Environmental protection, Air pollution control, Incorporation by reference, Intergovernmental relations, Nitrogen dioxide, Ozone, Particulate matter, Reporting and recordkeeping requirements, Sulfur oxides.

Dated: September 27, 2023.
Jeaneanne Gettle,
Acting Regional Administrator, Region 4.

For the reasons stated in the preamble, EPA amends 40 CFR part 52 as follows:

PART 52—APPROVAL AND PROMULGATION OF IMPLEMENTATION PLANS

1. The authority citation for part 52 continues to read as follows:

Authority: 42 U.S.C. 7401 et seq.

Subpart K—Florida

§ 52.520 [Amended]

2. In § 52.520 in paragraph (c) amend the table under the heading “Chapter 62-296 Stationary Sources-Emission Standards” by removing the entries for “Rules 62-296.470, Implementation of Federal Clean Air Interstate Rule,” “62-296.701, Portland Cement Plants,” “62-296.703, Carbonaceous Fuel Burners,” “62-296.706, Glass Manufacturing Process,” “62-296.709, Lime Kilns,” and “62-296.710, Smelt Dissolving Tanks.”

[FR Doc. 2023-21723 Filed 10-2-23; 8:45 am]

BILLING CODE 6560-50-P